ENVIRONMENTAL PROTECTION AGENCY

40 CFR Part 52

[EPA-R07-OAR-2008-0787; FRL-9096-3]

Approval and Promulgation of Implementation Plans; State of Missouri

AGENCY: Environmental Protection Agency (EPA).

ACTION: Proposed rule.

SUMMARY: EPA proposes to approve a revision to the State Implementation Plan (SIP) submitted by the state of Missouri. This revision applies to Missouri's rule relating to restriction of emission of visible air contaminants and removes redundant definitions, removes an outdated exemption for incinerators used to burn refuse in the outstate area of Missouri, and clarifies that the test methods stated in the rule shall be used to determine the opacity of visible emissions. EPA is not taking action on the state submitted revisions relating to open burning, as these provisions revise a rule that has not been adopted into the SIP. This revision will ensure consistency between the state and the federally-approved rules.

DATES: Comments on this proposed action must be received in writing by January 28, 2010.

ADDRESSES: Submit your comments, identified by Docket ID No. EPA-R07-OAR-2008-0787, by mail to Lachala Kemp, Environmental Protection Agency, Air Planning and Development Branch, 901 North 5th Street, Kansas City, Kansas 66101. Comments may also be submitted electronically or through hand delivery/courier by following the detailed instructions in the ADDRESSES section of the direct final rule located in the rules section of this Federal Register.

FOR FURTHER INFORMATION CONTACT: Lachala Kemp at (913) 551-7214, or by e-mail at kemp.lachala@epa.gov.

SUPPLEMENTARY INFORMATION: In the final rules section of the Federal Register, EPA is approving the state's SIP revision with the exception of the reference in section (1)(I), to the open burning rule in 10 CSR 10-6.045, as a direct final rule without prior proposal because the Agency views this is a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: December 15, 2009.
William Rice,
Acting Regional Administrator, Region 7.

[FR Doc. E9-30773 Filed 12-28-09; 8:45 am]

BILLING CODE 6560-50-P